DEPARTMENT OF COMMERCE

National Oceanic and Atmospheric Administration

[Docket No. 030602141-5207-22]

RIN 0648-ZB55

Availability of Grants Funds for Fiscal Year 2006; Ballast Water Technology Demonstration Program

AGENCY: Office of Oceanic and Atmospheric Research (OAR), National Oceanic and Atmospheric Administration (NOAA), Department of Commerce.

ACTION: Notice.

SUMMARY: The OAR publishes this notice to make the following corrections to submission date, mode of submission, and email address in the following initiative originally announced in the Federal Register on June 30, 2005 (70 FR 37766): Ballast Water Technology Demonstration Program Competitive Funding Announcement: Research, Development, Testing and Evaluation Facilities (OAR-SG-2006-2000364). The corrections to this Announcement are as follows:

(1) The correct deadline for submission of Full Proposals is 4 p.m. e.s.t. January 6, 2006;

(2) Preliminary Proposals may be submitted online through grants.gov;

(3) The correct e-mail address for questions related to the program is ballast.water@noaa.gov; All other requirements for this solicitation remain the same.

DATES: Preliminary proposals must be received by the National Sea Grant office by 4 p.m. e.s.t., on Friday, September 23, 2005. Final proposals must be received by 4 p.m., e.s.t., on Friday, January 6, 2006. Applicants without access to the Internet may submit paper applications using the same deadlines as electronic applications.

ADDRESSES: The address for submitting both preliminary and full proposals electronically is http://www.grants.gov./ Electronic submission is strongly encouraged. Applications without access to the Internet may submit paper documents regarding the initiative to the following address: National Sea Grant College Program, R/SG, Attn: Ballast Water Competition, Room 11841, NOAA, 1315 East-West Highway, Silver Spring, MD 20910 (phone number for express mail applications is 301-713-2435).

FOR FURTHER INFORMATION CONTACT: Dorn Carlson, the National Sea Grant Office, NOAA, 301-713-2435, or Pamela Thibodeaux, U.S. Fish and Wildlife Service, 703-358-2493. Agency contacts may be reached via e-mail at ballast.water@noaa.gov. Please contact an agent contact to obtain a copy of the Full Funding Opportunity announcement.

Dated: August 5, 2005.
Louisa Koch,
Deputy Assistant Director, OAR.

[FR Doc. 05-15967 Filed 8-11-05; 8:45 am]

BILLING CODE 3510-KA-P